DEPARTMENT OF COMMERCE

National Oceanic and Atmospheric Administration

[I.D. 020806G]

Western Pacific Regional Fishery Management Council; Public Meeting

AGENCY: National Marine Fisheries Service (NMFS), National Oceanic and Atmospheric Administration (NOAA), Commerce.

ACTION: Notice of public meeting.

SUMMARY: The 91st meeting of the Western Pacific Regional Fishery Management Council's (Council) Scientific and Statistical Committee (SSC) will convene Tuesday, February 28, 2006, through Thursday March 2, 2006(see SUPPLEMENTARY INFORMATION for specific times, dates, and agenda items).

DATES: The SSC meeting will be held from 8:30 a.m. to 5 p.m. on Tuesday, February 28, 2006, through Thursday March 2, 2006.

ADDRESSES: The SSC meeting will be held at the Council Office Conference Room, 1164 Bishop St., Suite 1400, Honolulu, HI; telephone: (808) 522-8220.

FOR FURTHER INFORMATION CONTACT: Kitty M. Simonds, Executive Director; telephone: 808-522-8220.

SUPPLEMENTARY INFORMATION:

Agenda for SSC Meeting

8:30 a.m. Tuesday, February 28, 2006

1. Introductions

2. Approval of Draft Agenda and Assignment of Rapporteurs

3. Approval of the Minutes of the 90th Meeting

4. 2005 Status of Stocks Report to Congress

5. Insular Fisheries

A. Bottomfish Management

1. MHI Bottomfish Overfishing Alternatives (FINAL ACTION)

2. Pacific Island Fisheries Science Center Report on Hawaii Bottomfish

3. The Ocean Conservancy Hawaii Bottomfish Assessment

4. Assessment of Existing and Designation of New State of Hawaii Bottomfish Restricted Fishing Areas

5. Report on Bottomfish Remote Camera Studies

6. Plan Team Report and Recommendations

B. Precious Corals

1. Black Coral Workshop Plan

C. Public Comment

D. Discussion and Recommendations

6. Ecosystem and Habitat

A. Northwestern Hawaiian Islands Fishing Regulations

B. Hawaii Institute of Marine Biology Report on NWHI research

C. Hawaii Ta pe Feeding Study

D. Hawaii Parrotfish Study

E. Ecosystem Social Science Workshop Report

F. Public Comment

G. Discussion and Recommendations

8:30 a.m. Wednesday, March 1, 2006

7. Protected Species

A. Observer Program Data and Science

B. Public Comment

C. Discussion and Recommendations

8. Pelagics Fisheries

A. International Fisheries Management

1. Western Central Pacific Fisheries Commission Resolutions

a. Bigeye Tuna/Yellowfin Tuna Conservation

b. Northern and Southern Albacore Conservation

c. Bycatch Measures

B. Annual Report Restructuring

C. Update on Hawaii Offshore Handline Fishery Issues

D. American Samoa and Hawaii Longline Fisheries 2005 Reports

E. Preliminary Report on Shallow-Setting Regulations

F. Public Comment

G. Discussion and Recommendations

8:30 a.m. Thursday, March 2, 2006

8. Other Business

A. MSA Reauthorisation

B. New SSC Members

C. 92nd SSC meeting

9. Summary of SSC Recommendations to the Council

Special Accommodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: February 9, 2006.
Tracey L. Thompson,
Acting Director, Office of Sustainable Fisheries, National Marine Fisheries Service.

[FR Doc. E6-2013 Filed 2-13-06; 8:45 am]

BILLING CODE 3510-22-S